NATIONAL INDIAN GAMING COMMISSION

25 CFR Part 542

RIN 3141-AA24

Minimum Internal Control Standards

Corrections

In proposed rule document 01-30788 beginning on page 66500 in the issue of Wednesday, December 26, 2001, make the following corrections:

§542.7 [Corrected]

On page 66507, in §542.7(b), in the second column, the first line should read “(b) Game play standards. (1) The”.* * *

§542.9 [Corrected]

On page 66510, in §542.9(i), in the first column, the third line should read “card room. (1) Promotional funds displayed”.* * *

§542.12 [Corrected]

1. On page 66515, in §542.12(j), in the first column, the first line should read “(j) Marker credit play. (1) If a gaming”.* * *

2. On page 66516, in §542.12(k), in the first column, the second line should read “in the pit. (1) For the purposes of this”.* * *

§542.13 [Corrected]

On page 66520, in §542.13(3), in the second column, the second line should read “standards. (i) A Central computer acting as”.* * *

§542.14 [Corrected]

On page 66521, in §542.14(d), in the third column, the second line should read “standards. (1) All transactions that flow”.* * *

§542.15 [Corrected]

On page 66522, in §542.15(c), in the second column, the first line should read “ (c) Payment standards. (1) All payments”.* * *

§542.23 [Corrected]

1. On page 66530, in §542.23(p), in the second column, the second line should read “record retention. (1) All video recordings”.* * *

2. On the same page, in §542.23(r), in the second column, the second line should read “(1) Surveillance personnel shall maintain a”.* * *

§542.31 [Corrected]

On page 66536, in §542.31(r), in the first column, the second line should read “keys. (1) The physical custody of the keys”.* * *

§542.33 [Corrected]

1. On page 66538, in §542.33(t), in the second column, the first line should read “(t) Currency and coin. (1) The”.* * *

2. On the same page, in §542.33(v), in the second column, the third line should read record retention. (1) All video recordings”.* * *

3. On the same page, in §542.33(x), in the third column, the second line should read “(1) Surveillance personnel shall maintain a”.* * *

4. On the same page, in §542.33(y), in the first column, the first line should read “(y) Surveillance log. (1) Surveillance”.* * *

5. On page 66539, the first column, in the first column, the nineteenth line should read Tier C Gaming Operations

§542.41 [Corrected]

On page 66541, in §542.41(g), in the first column, the first line should read “(g) Hard count room personnel. (1) The”.* * *

§542.42 [Corrected]

On page 66545, in §542.42(n), in the first column, the first line should read “(n) Keno. (1) The surveillance system”.* * *

[FR Doc. C1-30788 Filed 1-23-02; 8:45 am]

BILLING CODE 1505-01-D